DEPARTMENT OF ENERGY

International Energy Agency Meeting

AGENCY: Department of Energy.

ACTION: Notice of meeting.

SUMMARY: The Industry Advisory Board to the International Energy Agency (IEA) will meet on March 19, 2003, at the headquarters of the IEA in Paris, France in connection with a meeting of the IEA's Standing Group on Emergency Questions.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on March 19, 2003, beginning at 8:30 a.m. The purpose of this notice is to permit attendance by representatives of U.S. company members of the IAB at a meeting of the IEA's Standing Group on Emergency Questions (SEQ), which is scheduled to be held at the IEA on March 19, beginning at 9:30 a.m., including a preparatory encounter among company representatives from approximately 8:30 a.m. to 9 a.m.

The agenda for the preparatory encounter among company representatives is a review of the SEQ's meeting agenda. The agenda of the SEQ meeting is under the control of the SEQ. It is expected that the SEQ will adopt the following agenda:

1. Adoption of the Agenda.

2. Approval of the Summary Record of the 106th Meeting.

3. Update on Compliance with International Energy Program Stockholding Commitments.

4. The Current Oil Market Situation.

—Oral Report by the Secretariat

5. Exchange of Information on the State of Emergency Preparations.

6. Report on Current Activities of the IAB.

7. Other Policy and Legislative Developments in Member Countries.

8. Report on Developments in Non-Member Countries and International Organizations.

—IEA/China Seminar on Oil Stocks and Emergency Response in Beijing, Dec. 2002

—IEA/ASEAN +3 Oil Security Workshop in Tokyo, Dec. 2002

—Workshop on ASEAN Oil Security and Emergency Preparedness, May/June 2003

—Update on Stockholding Conference in Berlin, Sept. 2003

9. Other Emergency Response Activities.

—Results of Questionnaire on Minimum Operating Requirements

10. Emergency Response Reviews of IEA and Candidate Countries.

—Belgium

—Luxembourg

—Poland

—Revised Schedule of Emergency Response Reviews for 2003-2004

11. Other Documents for Information.

—Emergency Reserve Situation of IEA Member Countries on January 1, 2003

—Emergency Reserve Situation of IEA Candidate Countries on January 1, 2003

—Monthly Oil Statistics: December 2002

—Revised Base Period Final Consumption (BPFC): 4Q2001/3Q2002

—BPFC: 1Q2002/4Q2002

—Quarterly Oil Forecast: 1Q2003

—Update of Emergency Contacts List

12. Other Business

—Information on Ministerial Meeting 2003

—Dates of Next Meetings:

—June 17-18, 2003

—November 18-20, 2003

As provided in section 252(c)(1)(A)(ii) of the Energy Policy and Conservation Act (42 U.S.C. 6272(c)(1)(A)(ii)), this meeting is open only to representatives of members of the IAB and their counsel; representatives of members of the SEQ; representatives of the Departments of Energy, Justice, and State, the Federal Trade Commission, the General Accounting Office, Committees of Congress, the IEA, and the European Commission; and invitees of the IAB, the SEQ, or the IEA.

Issued in Washington, DC, March 4, 2003.
Samuel M. Bradley,
Assistant General Counsel for International and National Security Programs.

[FR Doc. 03-5864 Filed 3-11-03; 8:45 am]

BILLING CODE 6450-01-P